DEPARTMENT OF COMMERCE

National Institute of Standards and Technology

Announcing a Workshop on the Protocol for Lightweight Authentication of Identity (PLAID)

AGENCY: National Institute of Standards and Technology, Commerce.

ACTION: Notice of public workshop.

SUMMARY: The National Institute of Standards and Technology (NIST), in cooperation with the Australian Federal Government agency, Centrelink, will hold a public workshop on July 13-15, 2009, at the NIST Gaithersburg campus. The workshop is open to the public but requires registration. The goal of the 3-day workshop is to explore potential commercial implementations of the Protocol for Lightweight Authentication of Identity (PLAID) and the potential usefulness of this protocol to U.S. Federal agencies.

PLAID public resources are available from the following site: http://www.govdex.gov.au.

The principle of the workshop is that each attending vendor has two days, with the assistance of Centrelink, to “port” existing source code, or develop new code for their device or card. All the information vendors need will be available to them ahead of the workshop on the http://www.govdex.gov.au site. Vendors may obtain as much or as little assistance as they please from other vendors in the workshop. (Card vendors might, for instance, assist device vendors.)

On the third day, end-users are invited to view the efforts of all of the vendors. Each vendor will use their space to demonstrate their PLAID implementation to attendees. Attendees are invited to interact with the vendors and discuss their PLAID implementation.

DATES: The workshop will be held on July 13-15, 2009, 9 a.m. till 5 p.m.

ADDRESSES: The workshop will be held in the Employees' Lounge and the Poster Hallway in the Administration Building on the NIST Gaithersburg campus, 100 Bureau Drive, Gaithersburg, Maryland 20899. Please note registration and admittance instructions under the SUPPLEMENTARY INFORMATION section of this notice.

FOR FURTHER INFORMATION CONTACT: Tanya Brewer, T: (301) 975-4534, E: tbrewer@nist.gov.

SUPPLEMENTARY INFORMATION:

The National Institute of Standards and Technology (NIST), in cooperation with the Australian Federal Government agency, Centrelink, will hold a public workshop on July 13-15, 2009, at the NIST Gaithersburg campus. The workshop is open to the public but requires registration. The goal of the 3-day workshop is to explore potential commercial implementations of the Protocol for Lightweight Authentication of Identity (PLAID) and the potential usefulness of this protocol to U.S. Federal agencies.

PLAID public resources are available from the following site: http://www.govdex.gov.au. The principle of the workshop is that each attending vendor has two days, with the assistance of Centrelink, to “port” existing source code, or develop new code for their device or card. All the information vendors need will be available to them ahead of the workshop on the www.govdex.gov.au site. Vendors may obtain as much or as little assistance as they please from other vendors in the workshop. (Card vendors might, for instance, assist device vendors.)

On the third day, end-users are invited to view the efforts of all of the vendors. Each vendor will use their space to demonstrate their PLAID implementation to attendees. Attendees are invited to interact with the vendors and discuss their PLAID implementation.

This workshop is open to the public, but all attendees, vendors and others, must pre-register in advance. All visitors to the NIST campus are required to register in advance. No late or same-day registrations will be accepted for this reason. All attendees must present a government-issued ID when gaining access to the campus. There is no registration fee. Please submit your name, time of arrival, e-mail address and phone number to Tanya Brewer or Annie Sokol, and one of them will provide you with further logistics information. Non-U.S. citizens must also submit their country of citizenship, title, employer/sponsor, and address. The registration deadline is July 7, 2009. Tanya Brewer's e-mail address is tbrewer@nist.gov, and Annie Sokol's is annie.sokol@nist.gov.

Dated: June 15, 2009.
Patrick Gallagher,
Deputy Director.

[FR Doc. E9-14459 Filed 6-18-09; 8:45 am]

BILLING CODE 3510-13-P